NUCLEAR REGULATORY COMMISSION

10 CFR Part 9

[NRC-2010-0157]

RIN 3150-AI87

Public Records

AGENCY: U.S. Nuclear Regulatory Commission.

ACTION: Final rule.

SUMMARY: The Nuclear Regulatory Commission (NRC) is revising its regulations to change the fees for search and review of agency records by NRC personnel. This document is necessary to inform the public of these changes.

DATES: Effective Date: August 16, 2010.

FOR FURTHER INFORMATION CONTACT: Becky Wood at 301-415-6968, e-mail Becky.Wood@nrc.gov, or in writing to the Nuclear Regulatory Commission, Office of Information Services, Mail Stop TWFN-5F09, Washington, DC 20555-0001.

ADDRESSES: You can access publicly available documents related to this document using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Web site: Supporting materials related to this final rule can be found at http://www.regulations.gov by searching on Docket ID NRC-2010-0157.

SUPPLEMENTARY INFORMATION:

Background

These changes are necessary due to the Biennial Review of Fees for the Freedom of Information Act, as required by the Chief Financial Officer's Act of 1990 and Office of Management and Budget (OMB) Circular No. A-25. Specifically, 10 CFR part 9, section 9.37(a) will be changed from GG-7/7 to GG-7/6 and 9.37(c) will be changed from ES-4 to ES-Maximum.

Environmental Impact: Categorical Exclusion

The NRC has determined that this final rule is the type of action described in categorical exclusion 10 CFR 51.22(c)(2). Therefore, neither an environmental impact statement nor an environmental assessment has been prepared for this rule.

Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid OMB control number.

Backfit Analysis

The NRC has determined that the backfit rule does not apply to this final rule; therefore, a backfit analysis is not required for this final rule because these amendments are administrative in nature and do not involve any provisions that would impose backfits as defined in 10 CFR chapter I.

Congressional Review Act

In accordance with the Congressional Review Act of 1996, the NRC has determined that this action is not a major rule and has verified this determination with the Office of Information and Regulatory Affairs of OMB.

List of Subjects in 10 CFR Part 9

Freedom of Information Act Regulations, Privacy Act Regulations, Government Sunshine Act Regulations, and Production or Disclosure in Response to Subpoenas or Demands of Courts or Other Authorities.

Rulemaking Procedure

Because this amendment constitutes a minor administrative change to the regulations, the notice and comment provisions of the Administrative Procedure Act do not apply under 5 U.S.C. 553(b)(B).

For the reasons set out in the preamble and under the authority of the Atomic Energy Act of 1954, as amended; the Energy Reorganization Act of 1974, as amended; and 5 U.S.C. 552 and 5 U.S.C. 553, the NRC is adopting the following amendments to 10 CFR part 9.

PART 9—PUBLIC RECORDS

1. The authority citation for part 9 continues to read as follows:

Authority: Sec. 161, 68 Stat. 948, as amended (42 U.S.C. 2201); sec. 201, 88 Stat. 1242, as amended (42 U.S.C. 5841); sec. 1704, 112 Stat. 2750 (44 U.S.C. 3504 note).

Subpart A also issued 5 U.S.C. 552; 31 U.S.C. 9701; Pub. L. 99-570.

Subpart B is also issued under 5 U.S.C. 552a.

Subpart C is also issued under 5 U.S.C. 552b.

2. In § 9.37, paragraphs (a) and (c) are revised to read as follows:

§ 9.37 Fees for search and review of agency records by NRC personnel.

* * * * *

(a) Clerical search and review at a salary rate that is equivalent to a GG-7/step 6, plus 16 percent fringe benefits;

* * * * *

(c) Senior executive or Commissioner search and review at a salary rate that is equivalent to an ES-Maximum, plus 16 percent fringe benefits.

Dated at Rockville, Maryland, this 6th day of July, 2010.
For the Nuclear Regulatory Commission.
R.W. Borchardt,
Executive Director for Operations.

[FR Doc. 2010-17372 Filed 7-15-10; 8:45 am]

BILLING CODE 7590-01-P